DEPARTMENT OF COMMERCE

Foreign-Trade Zones Board

[B-74-2014]

Foreign-Trade Zone 283—Jackson, Tennessee; Authorization of Production Activity MAT Industries, LLC (Air Compressors), Jackson, Tennessee

On October 14, 2014, MAT Industries, LLC, operator of FTZ 283—Site 11, submitted a notification of proposed production activity to the Foreign-Trade Zones (FTZ) Board for its facility in Jackson, Tennessee.

The notification was processed in accordance with the regulations of the FTZ Board (15 CFR part 400), including notice in the Federal Register inviting public comment (79 FR 64167-64168, 10-28-2014). The FTZ Board has determined that no further review of the activity is warranted at this time. The production activity described in the notification is authorized, subject to the FTZ Act and the FTZ Board's regulations, including Section 400.14.

Dated: February 18, 2015.
Andrew McGilvray,
Executive Secretary.

[FR Doc. 2015-03754 Filed 2-23-15; 8:45 am]

BILLING CODE 3510-DS-P